MORRIS K. UDALL SCHOLARSHIP AND EXCELLENCE IN NATIONAL ENVIRONMENTAL POLICY FOUNDATION

The United States Institute for Environmental Conflict Resolution; Agency Information Collection Activities: Submission for OMB Review; Comment Request; Program Evaluation Instruments for Five of the Institute's Program Areas

AGENCY: Morris K. Udall Scholarship and Excellence in National Environmental Policy Foundation, U.S. Institute for Environmental Conflict Resolution.

ACTION: Notice.

SUMMARY: In compliance with the Paperwork Reduction Act and supporting regulations, this document announces that the U.S. Institute for Environmental Conflict Resolution (the Institute), part of the Morris K. Udall Foundation, has forwarded to the Office of Management and Budget (OMB) the following five Information Collection Requests (ICRs): (1) Program Evaluation Instruments—Environmental Conflict Resolution Services, (2) Program Evaluation Instruments—Conflict Assessment Services, (3) Program Evaluation Instruments—National Roster of Environmental Dispute Resolution and Consensus Building Professionals, (4) Program Evaluation Instruments—Environmental Conflict Resolution Training, (5) Program Evaluation Instruments—Meeting Facilitation. Each ICR describes the authority and need for program evaluation, the nature and use of the information to be collected, the expected burden and cost to respondents and the Institute, and how the evaluation results will be made available. The ICRs also contain the specific questionnaires that will be used to collect the information for each program area. Approval is being sought for each ICR separately, and information collection will begin for each program area once the respective ICR has been approved by OMB. The Institute published a Federal Register notice on December 26, 2001, at 66 FR 66455, to solicit public comments for a 60-day period. The Institute received three comments. The comments and the Institute's responses are included in the ICRs. The purpose of this notice is to allow an additional 30 days for public comments regarding these ICRs.

DATES: Comments must be submitted on or before April 29, 2002.

ADDRESSES: Direct comments to: Office of Information and Regulatory Affairs, Office of Management and Budget (OMB), Attention: Amy Farrell, Desk Officer for The Morris K. Udall Scholarship and Excellence in National Environmental Policy Foundation, U.S. Institute for Environmental Conflict Resolution. Amy_L._Farrell@omb.eop.gov.

FOR FURTHER INFORMATION CONTACT: Technical details of the Institute's evolving program evaluation system are contained in a December 2001 draft report entitled Applying Program Evaluation Methods at the U.S. Institute for Environmental Conflict Resolution. Paper copies of this report can be obtained by contacting the Institute; an electronic copy can be downloaded from the Institute's Web site: www.ecr.gov/techdoc.htm. For further information or a copy of the ICR, contact: Dale Keyes, Senior Program Manager, U.S. Institute for Environmental Conflict Resolution, 110 South Church Avenue, Suite 3350, Tucson, Arizona 85701. Fax: 520-670-5530. Phone: 520-670-5653. E-mail: keyes@ecr.gov.

SUPPLEMENTARY INFORMATION:

A. Title for the Collection of Information

Program Evaluation Instruments for Five of the U.S. Institute for Environmental Conflict Resolution's Program Areas

B. Potentially Affected Persons

You are potentially affected by this action if you are or could be a dispute resolution professional (in particular, if you are a member of the National Roster of Environmental Dispute Resolution and Consensus Building Professionals), a user of the National Roster of Environmental Dispute Resolution and Consensus Building Professionals, a member of an organization that requests conflict assessment or environmental dispute resolution and consensus building services from the Institute, a party to an environmental consensus building or dispute resolution case for which the Institute provides services, an instructor or participant in an Institute training course, or an attendee at a meeting for which the Institute provides facilitation services.

C. Questions To Consider in Making Comments

The U.S. Institute for Environmental Conflict Resolution requests your comments to any of the following questions related to collecting information as part of its program evaluation system:

(1) Is the proposed program evaluation system and the associated “collection of information” necessary for the proper performance of the functions of the agency, including whether the information will have practical utility?

(2) Is the agency's estimate of the time spent completing the questionnaires for each program area (“burden of the proposed collection of information”) accurate, including the validity of the methodology and assumptions used?

(3) Can you suggest ways to enhance the quality, utility, and clarity of the information collected?

(4) Can you suggest ways to minimize the burden of the collection of information on those who are to respond, including through the use of appropriate automated electronic, mechanical, or other technological collection techniques or other forms of information technology?

D. Abstract

The U.S. Institute for Environmental Conflict Resolution plans to collect information from members and users of its National Roster of Environmental Dispute Resolution and Consensus Building Professionals, environmental dispute resolution professionals under contract with the Institute, users of its services, and participants in its programs. Responses to the collection of information (the questionnaires) will be voluntary and anonymous except for environmental dispute resolution professions under contract with the Institute, for whom responding will be a contractual obligation.

Background Information: U.S. Institute for Environmental Conflict Resolution

The U.S. Institute for Environmental Conflict Resolution was created in 1998 by the Environmental Policy and Conflict Resolution Act (Pub. L. 105-156). The Institute is located in Tucson, Arizona and is part of the Morris K. Udall Foundation, an independent agency of the executive branch of the federal government. The Institute's primary purpose is to provide impartial, non-partisan assistance to federal and non-federal parties. The Institute provides assistance in seeking agreement or resolving disputes through use of mediation and other collaborative, non-adversarial means regarding environmental, natural resources, and public lands issues involving a federal interest. The Institute accomplishes most of its work by partnering or contracting with, or referral to, experienced practitioners.

The Need for and Proposed Use of the Information Collected as Part of the Institute's Program Evaluation System

To comply with the Government Performance and Results Act (Pub. L. 103-62), the U.S. Institute for Environmental Conflict Resolution, as part of the Morris K. Udall Foundation, is required to produce an Annual Performance Plan, linked directly to the goals and objectives outlined in the Institute's five-year Strategic Plan. The Institute is also required to produce an Annual Performance Report, evaluating progress toward achieving its performance commitments. The Institute is currently developing a program evaluation system to gather and analyze information needed to assist in producing its Annual Performance Report.

The Institute is committed to establishing, achieving, and maintaining a national standard of excellence in all its programs, products, and services. To do so, the Institute requires high quality information concerning effectiveness of its various initiatives. Systematic and ongoing monitoring of program outcomes will allow the Institute to perform a variety of tasks, including giving individual project and program managers, as well as the Institute's management, the ability to accurately assess and report on program and project achievements. The new evaluation system has been carefully designed to support efficient and economical generation, analysis and use of this much-needed information, with an emphasis on program feedback, learning and improvement.

Primary audiences for results from the Institute's program evaluation system include members of its program staff and management, who will use the information in decision-making regarding program operation and directions, and oversight bodies such as the Udall Foundation Board of Trustees and OMB. Secondary audiences will likely include other federal agencies, practitioners in the field, researchers, and members of the public. The Institute will use the information and analysis generated by its program evaluation system for a variety of purposes. In addition to aiding improvements to the design and operation of Institute projects and programs, periodic performance reporting, and annual evaluations of personnel performance; the evaluation results will be used to illuminate what factors most influence successful outcomes from environmental conflict resolution (ECR) efforts in specific situations. Ultimately, this information should aid further development of best practices for the field of .ECR.

The Institute is exploring with several other federal agencies how its program evaluation system can be of use to these agencies' program evaluation needs. The broader use of similar data collection instruments and consistent data collection and analysis techniques may provide cost savings to other agencies and accelerate the rate at which each agency reviews and improves effective performance of conflict resolution processes.

E. Burden Statement

Each of the five ICRs covered by this Federal Register notice contains estimates of the time and financial burden imposed on respondents to the requests for information. Burden means the total time, effort, or financial resources expended by persons to generate, maintain, retain, or disclose or provide information to or for a Federal agency. This includes the time needed to review instructions; develop, acquire, install, and utilize technology and systems for the purpose of collecting, validating, and verifying information, processing and maintaining information, and disclosing and providing information and transmitting information. With respect to the information requests included in the five ICRs (a total of 20 questionnaires), burden includes time spent to: (1) Read letters of introduction and follow-up letters (either in hard copy or on the Institute's Web site) requesting that the questionnaires be completed and submitted, (2) reading instructions, answering questions, and submitting the questionnaires; and (3) for a few questionnaires, accessing notes or other information to answer questions. Burden estimates are presented in terms of hours and imputed costs based on the estimated value of respondents' time. No start-up or capital costs for respondents are anticipated, even for questionnaires available electronically (these respondents will be members of the Institute's National Roster of Environmental Dispute Resolution and Consensus Building Professionals and will use the same computer equipment to access the questionnaires as was used to apply for Roster membership, or can request hard copies of the questionnaires and submit them via the US Postal Service).

Following is a summary of the burden estimates:

ECR Services Program Area

Type of Respondents: facilitators/mediators and participants in the Institute's ECR cases.

Estimated Number of Potential Respondents (annual average for three years): 1,170.

Proposed Frequency of Response: once per case for facilitators/mediators, once per case for attorneys, twice per case for parties.

Estimated Average Time per Respondent: 21 minutes.

Estimated Total Cost per Respondent: $10.39.

Conflict Assessment Services

Type of Respondents: facilitators/mediators and members of initiating organizations in the Institute's conflict assessments.

Estimated Number of Potential Respondents (annual average for three years): 220.

Proposed Frequency of Response: once per assessment.

Estimated Average Time per Respondent: 11 minutes.

Estimated Total Cost per Respondent: $7.36.

National Roster of Dispute Resolution and Consensus Building Professionals

Type of Respondents: members and users of the National Roster.

Estimated Number of Potential Respondents (annual average for three years): 385.

Proposed Frequency of Response: once per year for members, once per use event for users.

Estimated Average Time per Respondent: 18 minutes.

Estimated Total Cost per Respondent: $10.09.

ECR Training

Type of Respondents: instructors and participants in the Institute's training courses.

Estimated Number of Potential Respondents (annual average for three years): 415.

Proposed Frequency of Response: twice per course for instructors, three times per course for participants.

Estimated Average Time per Respondent: 39 minutes.

Estimated Total Cost per Respondent: $17.79.

Meeting Facilitation

Type of Respondents: attendees at the Institute's facilitated meetings.

Estimated Number of Potential Respondents (annual average for three years): 500.

Proposed Frequency of Response: once per meeting.

Estimated Average Time per Respondent: 5 minutes.

Estimated Total Cost per Respondent: $2.25.

F. Other Information

Each ICR also contains information on the following topics: development of the Institute's program evaluation system, confidentiality of information, estimates of costs to the Federal Government for collecting, processing, storing and using the requested information, and issues related to analysis of the information.

(Authority: 20 U.S.C. Sec. 5601-5609)
Dated: March 25, 2002.
Christopher L. Helms,
Executive Director, Morris K. Udall Foundation.

[FR Doc. 02-7577 Filed 3-28-02; 8:45 am]

BILLING CODE 6820-FN-P